ENVIRONMENTAL PROTECTION AGENCY

[FRL-7396-4]

Environmental Appeals Board (EAB); Oral Argument Before the EAB

AGENCY: Environmental Protection Agency.

ACTION: Notice of oral argument.

SUMMARY: The Environmental Appeals Board (EAB) of the U.S. Environmental Protection Agency (EPA) will hold oral argument in In re Carlota Copper Co., NPDES Appeal Nos. 00-23 and 02-26, on Thursday, October 24, 2002, at 10 a.m. in the EPA Administrative Courtroom, 1201 Constitution Avenue, NW., Washington, DC. The argument is open to the public.

DATES: The oral argument will be held on Thursday, October 24, 2002, at 10 a.m.

ADDRESSES: The oral argument will be held in the EPA Administrative Courtroom, 1201 Constitution Avenue, NW., Washington, DC.

FOR FURTHER INFORMATION CONTACT: Eurika Durr, Clerk of the Board, telephone: 202-501-7060; e-mail: durr.eurika@epa.gov.

Dated: October 9, 2002.
Ronald L. McCallum,
Environmental Appeals Judge.

[FR Doc. 02-26708 Filed 10-18-02; 8:45 am]

BILLING CODE 6560-50-P